DEPARTMENT OF ENERGY

Federal Energy Regulatory Commission

[Project No. 2629-029]

Village of Morrisville, Vermont; Notice of Application for Amendment of License Accepted for Filing, Soliciting Comments, Motions To Intervene, and Protests

Take notice that the following hydroelectric application has been filed with the Commission and is available for public inspection:

a. Application Type: Administrative Amendment of License.

b. Project No: 2629-029.

c. Date Filed: February 15, 2022, and supplemented on July 11, 2023.

d. Applicant: Village of Morrisville, Vermont (licensee).

e. Name of Project: Morrisville Hydroelectric Project.

f. Location: The project is located on the Green River, Elmore Pond Brook, and Lamoille River, in Lamoille County, Vermont. The project does not occupy any federal lands.

g. Filed Pursuant to: Federal Power Act, 16 U.S.C. 791a-825r.

h. Applicant Contact: Penny Jones, Manager, Village of Morrisville, Water and Light Department, 857 Elmore Street, Morrisville, VT 05661; pjones@mwlvt.com; (802) 888-3348.

i. FERC Contact: Marybeth Gay, (202) 502-6125, Marybeth.gay@ferc.gov.

j. Deadline for filing comments, motions to intervene, and protests: June 24, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include the docket number P-2629-029. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: As currently licensed, the Morrisville Hydroelectric Project No. 2629 (Morrisville Project) consists of four developments: Cadys Falls, Morrisville, Lake Elmore, and Green River. On April 25, 2013, the Village of Morrisville, Vermont (Village) filed an application for a new license to continue to operate and maintain the Morrisville Project. In the license application, the Village proposes to continue operating the Morrisville, Cadys Falls, and Green River Developments. The Village proposed to remove the Lake Elmore Development from the project, permanently set the spillway opening at elevation 1,139 feet mean sea level (msl), and discontinue the annual fall drawdown at the development. Commission staff issued a final environmental assessment for the project's relicensing on December 16, 2014.

On August 9, 2016, the Vermont Agency of Natural Resources issued a water quality certificate (WQC) for the project's relicensing. Among other conditions, the WQC would restrict drawdowns of the Green River Development's reservoir to 1.5 feet from December 16 through March 31. By letter dated September 13, 2016, Commission staff requested that the Village conduct two studies for the Green River Development dam, a hydraulic and hydrology analysis and a stability analysis, to determine the effects of the 1.5-foot winter drawdown limit on the stability of the Green River Development's dam and the ability of the Green River Development to accommodate flood flows. The Village has not completed these studies, and the relicense application is still pending.

The Village filed an amendment to the current project license on February 15, 2022, as supplemented on July 11, 2023. The Village states that, in order to remove the Morrisville and Cadys Falls Developments from the uncertainty surrounding the Green River Development, it proposes to administratively amend the current license to split the project's four developments into two separately licensed projects. As proposed in this amendment application, the Green River and Lake Elmore Developments would remain licensed under docket number P-2629, while the Cadys Falls and Morrisville developments would be licensed separately under a new project number.

The Village states that its proposed amendment is administrative in nature and will not result in changes to the four developments' operations, ground disturbance, or environmental effects. On March 12, 2024, the Village notified the Commission that it intends to submit an application to surrender the Green River Development after the Commission issues its decision on the proposed amendment application.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 23, 2024.
Debbie-Anne A. Reese,
Acting Secretary.

[FR Doc. 2024-11884 Filed 5-30-24; 8:45 am]

BILLING CODE 6717-01-P